DEPARTMENT OF HEALTH AND HUMAN SERVICES

Centers for Disease Control and Prevention

[30-Day-14-0910]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Message Testing for Tobacco Communication Activities (OMB No. 0920-0910, exp. 1/31/2015)—Revision—National Center for Chronic Disease Prevention and Health Promotion (NCCDPHP), Centers for Disease Control and Prevention (CDC).

Background and Brief Description

In 2012, CDC's Office on Smoking and Health (OSH) obtained OMB approval of a generic clearance to support the development of tobacco-related health messages (Message Testing for Tobacco Communication Activities (MTTCA), OMB No. 0920-0910, exp. 1/31/2015). A variety of information collection strategies are supported through this generic mechanism, including in-depth interviews, in-person focus groups, online focus groups, computer-assisted, in-person, or telephone interviews, and online surveys. Each project approved under the MTTCA framework is outlined in a project-specific Information Collection Request that describes its purpose and methodology.

The MTTCA clearance has been used to obtain OMB approval for a variety of message testing activities, with particular emphasis on communications supporting CDC's “Tips from Former Smokers” campaign. This national campaign, developed and implemented by OSH, is designed to increase public awareness of the health consequences of tobacco use and exposure to secondhand smoke. The MTTCA clearance has also supported formative research relating to the development of health messages that are not specifically associated with the national campaign.

In 2014, CDC will implement a new phase of the national tobacco education campaign and continue ongoing programmatic initiatives, such as maintaining the Media Campaign Resource Center (MCRC) and producing reports in conjunction with the Office of the Surgeon General. OSH will continue to use the MTTCA clearance to improve the quality of tobacco-related health messages associated with these activities and other tobacco control efforts of interest to CDC and its partners. OSH anticipates that a number of messages will be developed or refined for subpopulations as well as the general public. For example, screening activities may be conducted to involve individuals who are Lesbian, Gay, Bisexual, and Transgender (LGBT); individuals who are active military or veterans; individuals who suffer from depression and/or anxiety, and individuals who are English-speaking Hispanics. CDC may also request information about smoking status (e.g., current non-smoker, current smoker, ex-smoker).

CDC is requesting OMB approval to revise the generic MTTCA clearance, which was initially approved with the following estimates: 5,775 annualized burden hours and 14,974 annualized responses. The initial estimates were based on the number of respondents who were likely to participate in information collection activities such as focus groups, interviews, and surveys. The initial estimates did not specifically account for screening activities that are necessary to identify respondents from key target audiences. As a result, the initial MTTCA clearance underestimated the total number of responses needed to support data collection conducted in 2012 and 2013. The planned revision will adjust for screening and recruitment by allocating 20,000 additional respondents, and 667 additional burden hours, to the annualized estimates. To accommodate both planned activities and potential new initiatives or collaborations, CDC is also requesting modest increases in the number of respondents and burden hours associated with survey activities.

CDC's authority to collect information for public health purposes is provided by the Public Health Service Act (41 U.S.C. 241) Section 301.

The revision request does not affect the current expiration date of January 31, 2015. The estimated annualized number of responses will increase from 14,974 to 36,847 and the total estimated annualized burden hours will increase from 5,775 to 7,219. Participation is voluntary and there are no costs to respondents other than their time.

Estimated Annualized Burden Hours
Type of respondents | Data collection method | Number of respondents | Number of responses per respondent | Average burden per response
General Public and Special Populations | Screening and Recruitment | 20,000 | 1 | 2/60
| In-depth Interviews (In Person, telephone, etc.) | 67 | 1 | 1
| Focus Groups (In Person) | 160 | 1 | 1.5
| Focus Groups (Online) | 120 | 1 | 1
| Short Surveys (Online, Bulletin Board, etc.) | 6,500 | 1 | 10/60
| Medium Surveys (Online) | 8,500 | 1 | 25/60
| In-depth Surveys (Online) | 1,500 | 1 | 1

Leroy A. Richardson,
Chief, Information Collection Review Office, Office of Scientific Integrity, Office of the Associate Director for Science, Office of the Director, Centers for Disease Control and Prevention.

[FR Doc. 2013-27928 Filed 11-20-13; 8:45 am]

BILLING CODE 4163-18-P